Title 3—

The President

Notice of January 5, 2004

Continuation of the National Emergency With Respect to Libya

On January 7, 1986, by Executive Order 12543, President Reagan declared a national emergency to deal with the unusual and extraordinary threat to the national security and foreign policy of the United States constituted by the actions and policies of the Government of Libya. On January 8, 1986, by Executive Order 12544, the President took additional measures to block Libyan assets in the United States. The President has transmitted a notice continuing this emergency to the Congress and the Federal Register every year since 1986.

The crisis between the United States and Libya that led to the declaration of a national emergency on January 7, 1986, has not been fully resolved, although there have been some positive developments.

On September 12, 2003, the United Nations Security Council adopted Resolution 1506 (UNSCR 1506), ending the United Nations sanctions against Libya. These U.N. sanctions were imposed in 1992 and 1993 as a result of Libyan involvement in the terrorist bombings of Pan Am 103 in 1988 and UTA 772 in 1989, and included travel restrictions, an arms embargo, and financial sanctions. The UNSCR 1506 lifted these sanctions after Libya addressed the requirements of the relevant UNSC Resolutions, including accepting responsibility for the actions of its officials in the Pan Am 103 attack and arranging to compensate the families of the victims. The United States abstained from voting on the lifting of U.N. sanctions, and it made clear that it continued to have serious concerns about other Libyan policies and actions, including Libya's pursuit of weapons of mass destruction, Libya's role with respect to terrorism, and Libya's poor human rights record.

On December 19, 2003, Prime Minister Blair and I announced separately that Libya's leader, Colonel Muammar Qadhafi, had agreed to eliminate all elements of Libya's chemical and nuclear weapons program, declare all nuclear activities to the International Atomic Energy Agency (IAEA), accept international inspections to ensure Libya's complete adherence to the Nuclear Nonproliferation Treaty and sign the IAEA Additional Protocol, accede to the Chemical Weapons Convention, eliminate ballistic missiles beyond 300 kilometer range, and immediately and unconditionally allow inspectors from international organizations to enter Libya. Libya's declaration of December 19, 2003, marks an important and welcome step toward addressing the concerns of the world community. As Libya takes tangible steps to address those concerns, the United States will in turn take reciprocal tangible steps to recognize Libya's progress. Libya's agreement marks the beginning of a process of rejoining the community of nations, but its declaration of December 19, 2003, must be followed by verification of concrete steps.

Therefore, consistent with section 202(d) of the National Emergencies Act (50 U.S.C. 1622(d)), I am continuing the national emergency with respect to Libya. This notice shall be published in the Federal Register and transmitted to the Congress.

B

THE WHITE HOUSE,

January 5, 2004.

[FR Doc. 04-363

Filed 1-5-04; pm]

Billing code 3195-01-P